ENVIRONMENTAL PROTECTION AGENCY

[FRL-7085-3]

Meeting of the National Drinking Water Advisory Council; Notice of Public Meeting

AGENCY: Environmental Protection Agency.

ACTION: Notice.

SUMMARY: Under Section 10(a)(2) of Public Law 92-423, “The Federal Advisory Committee Act,” notice is hereby given that a meeting of the National Drinking Water Advisory Council established under the Safe Drinking Water Act, as amended (42 U.S.C. S3300f et seq.), will be held on November 8, 2001, from 9 a.m. until 5 p.m., November 9, 2001, from 8:30 a.m. until 12:30 p.m., at the Wyndham City Center, 1143 New Hampshire Avenue, NW, Washington, D.C. The Council will hear presentations and have discussions on several topics important to the Environmental Protection Agency's national drinking water program, including: Regulatory program update and key issues in development of the Arsenic, Stage 2 Disinfectants and Disinfection Byproducts and Long Term 2 Enhanced Surface Water Treatment rules, and making regulatory determinations from the Contaminant Candidate List; the Agency's Critical Infrastructure Protection efforts; progress on strategies for overall drinking water research and waterborne microbial disease; and updates on other implementation initiatives. The Council encourages the hearing of outside statements and will allocate one hour for this purpose. Oral statements will be limited to five minutes, and it is preferred that only one person present the statement. Any outside parties interested in presenting an oral statement should petition the Council by telephone at (202) 260-9194 or (202) 260-5509 before October 30, 2001.

Any person who wishes to file a written statement can do so before or after a Council meeting. Written statements received prior to the meeting will be distributed to all members of the Council before any final discussion or vote is completed. Any statements received after the meeting will become part of the permanent meeting file and will be forwarded to the Council members for their information.

Members of the public that would like to attend the meeting, present an oral statement, or submit a written statement, should contact Janet Pawlukiewicz, Designated Federal Officer, National Drinking Water Advisory Council, U.S. EPA, Office of Ground Water and Drinking Water (4601), 401 M Street SW., Washington, DC 20460. The telephone number is Area Code (202) 260-9194 or e-mail pawlukiewicz.janet@epa.gov.

Dated: October 5, 2001.
Cynthia C. Dougherty,
Director, Office of Ground, Water and Drinking Water.

[FR Doc. 01-26101 Filed 10-16-01; 8:45 am]

BILLING CODE 6560-50-P